DEPARTMENT OF LABOR

Employment and Training Administration

[TA-W-37,262]

London International Group, LLC, Centre Plant, Dothan, AL; Notice of Termination of Investigation

Pursuant to Section 221 of the Trade Act of 1974, an investigation was initiated on January 24, 2000, in response to a petition filed by a company official on the same date on behalf of workers at London International Group, LLC, Centre Plant, Dothan, Alabama

The company official submitting the petition has requested that the petition be withdrawn. Consequently, further investigation in this case would serve no purpose, and the investigation has been terminated.

Signed in Washington, D.C. this 29th day of February, 2000.
Grant D. Beale,
Program Manager, Division of Trade Adjustment Assistance.

[FR Doc. 00-6370 Filed 3-14-00; 8:45 am]

BILLING CODE 4510-30-M